NATIONAL CREDIT UNION ADMINISTRATION

Sunshine Act; Notice of Agency Meeting

Time and Date: 10 a.m., Tuesday, April 21, 2009.

Place: Board Room, 7th Floor, Room 7047, 1775 Duke Street, Alexandria, VA 22314-3428.

Status: Open.

Matters To Be Considered: 1. Final Rule—Part 717, Subpart E, Sections 717.40-717.43, Appendix E of NCUA's Rules and Regulations, Fair Credit Reporting.

2. Advance Notice of Proposed Rulemaking—Part 717, Subpart E, Sections 717.40-717.43, Appendix E of NCUA's Rules and Regulations, Fair Credit Reporting.

3. Proposed Rule—Part 706 of NCUA's Rules and Regulations, Unfair or Deceptive Acts or Practices.

4. Delegations of Authority, Office of Small Credit Union Initiatives.

5. Creditor Claim Appeal.

6. Budget, Office of Capital Markets and Planning and Central Liquidity Facility.

7. Insurance Fund Report.

Recess: 11 a.m.

Time and Date: 11:15 a.m., Tuesday, April 21, 2009.

Place: Board Room, 7th Floor, Room 7047, 1775 Duke Street, Alexandria, VA 22314-3428.

Status: Closed.

Matters To Be Considered: 1. Insurance Appeal. Closed pursuant to Exemption (6).

2. Creditor Claim Appeal. Closed pursuant to Exemption (6).

3. Dividend Appeal. Closed pursuant to Exemption (6).

4. Consideration of Supervisory Activities (6). Closed pursuant to Exemptions (8) and (9)(A)(ii) and 9(B).

FOR FURTHER INFORMATION CONTACT: Mary Rupp, Secretary of the Board, Telephone: 703-518-6304.

Mary Rupp,
Board Secretary.

[FR Doc. E9-8837 Filed 4-14-09; 4:15 pm]

BILLING CODE 7535-01-P